DEPARTMENT OF ENERGY

Federal Energy Regulatory Commission

[Project No. 2242-159]

Eugene Water & Electric Board; Notice of Intent To Prepare an Environmental Assessment

On June 21, 2021, supplemented May 16, 2024, July 3, 2024, April 21, 2025, and January 21, 2026, Eugene Water and Electric Board filed an application to install a load bank in lieu of a turbine bypass valve under license Article 3 for the Carmen-Smith Hydroelectric Project No. 2242. The project is located on the McKenzie and Smith Rivers in Lane and Linn counties, near McKenzie Bridge, Oregon, and occupies U.S. Forest Service Land within the Willamette National Forest.

Eugene Water and Electric Board proposed to install a load bank at the Carmen Power Plant for protecting the Smith Bypass Reach and its associated environment against spill events from Smith Dam. The load bank would dissipate electricity produced at the Carmen Power Plant equivalent to at least 800 cubic feet per second of spill that is required to be diverted from the Smith Bypass Reach. On May 22, 2025, the Commission noticed the application for a 30-day comment period. On June 20, 2025, the Oregon Department of Environmental Quality and Oregon Department of Fish and Wildlife filed motions to intervene. On June 23, 2025, Oregon Wild filed comments on the application.

This notice identifies Commission staff's intention to prepare an environmental assessment (EA) under the National Environmental Policy Act (42 U.S.C. 4321 et seq.) for the project.¹ Commission staff plans to issue an EA by July 31, 2026. Revisions to the schedule may be made as appropriate. The EA will be issued for a 30-day comment period. All comments filed on the EA will be reviewed by staff and considered in the Commission's final decision on the proceeding.

¹ The unique identification number for documents relating to this environmental review is EAXX-019-20-000-1769181469.

For public inquiries and assistance with making filings such as interventions, comments, or requests for rehearing, contact the Office of Public Participation at (202) 502-6595 or OPP@ferc.gov.

Any questions regarding this notice may be directed to Erich Gaedeke at 503-552-2716 or erich.gaedeke@ferc.gov.

(Authority: 18 CFR 2.1)

Dated: January 28, 2026.
Debbie-Anne A. Reese,
Secretary.

[FR Doc. 2026-02034 Filed 1-30-26; 8:45 am]

BILLING CODE 6717-01-P